DEPARTMENT OF TRANSPORTATION

Federal Aviation Administration

14 CFR Part 39

[Docket No. FAA-2013-0865; Directorate Identifier 2012-NM-199-AD; Amendment 39-17819; AD 2014-07-05]

RIN 2120-AA64

Airworthiness Directives; Fokker Services B.V. Airplanes

AGENCY: Federal Aviation Administration (FAA), Department of Transportation (DOT).

ACTION: Final rule.

SUMMARY: We are adopting a new airworthiness directive (AD) for certain Fokker Services B.V. Model F.28 Mark 0070 and 0100 airplanes. This AD was prompted by an evaluation by the design approval holder (DAH) indicating that the butt-joints on the forward fuselage above the passenger door are subject to widespread fatigue damage (WFD). This AD requires inspecting the forward fuselage butt-joints for cracking, repairing any crack, and eventually doing a terminating repair. We are issuing this AD to prevent fatigue cracking of such butt-joints, which could result in reduced structural integrity of the airplane and in-flight decompression of the airplane.

DATES: This AD becomes effective May 21, 2014.

The Director of the Federal Register approved the incorporation by reference of certain publications listed in this AD as of May 21, 2014.

ADDRESSES: You may examine the AD docket on the Internet at http://www.regulations.gov/#!docketDetail;D=FAA-2013-0865: or in person at the Docket Management Facility, U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Discussion

We issued a notice of proposed rulemaking (NPRM) to amend 14 CFR part 39 by adding an AD that would apply to certain Fokker Services B.V. Model F.28 Mark 0070 and 0100 airplanes. The NPRM published in the Federal Register on October 23, 2013 (78 FR 63132). The NPRM was prompted by an evaluation by the DAH indicating that the butt-joints on the forward fuselage above the passenger door are subject to WFD. The NPRM proposed to require inspecting the forward fuselage butt-joints for cracking, repairing any crack, and eventually doing a terminating repair. We are issuing this AD to prevent fatigue cracking of such butt-joints, which could result in reduced structural integrity of the airplane and in-flight decompression of the airplane.

The European Aviation Safety Agency (EASA), which is the Technical Agent for the Member States of the European Community, has issued EASA Airworthiness Directive 2012-0218, dated October 19, 2012 (referred to after this as the Mandatory Continuing Airworthiness Information, or “the MCAI”), to correct an unsafe condition for the specified products. The MCAI states:

A report has been received of a crack, detected in a butt-joint on the forward fuselage of an F28 Mark 0100 aeroplane, above the passenger door. Investigation results revealed that, depending on the configuration of the aeroplane, four butt joints in the forward fuselage can be affected, at stringers 8, 37, 42 and 67 between fuselage stations 3850 and 5305.

This condition, if not detected and corrected, can result in an exponential crack growth rate, possibly leading to failure of the butt-joint over a certain length and consequent in-flight decompression of the aeroplane.

For the reasons described above, this [EASA] AD requires a one-time inspection [low frequency eddy current] of the forward fuselage butt joints for cracks and, depending on findings, accomplishment of a temporary repair [including a detailed inspection for cracks in the butt strap on the inside of the applicable joint, and corrective actions if necessary] and reporting the findings to Fokker Services. In addition, this AD requires a permanent repair/modification [and a detailed inspection for cracks in the butt strap on the inside of the applicable joint, and corrective actions if necessary].

Corrective actions include removing the cracked part of the butt joint and installing an insert, and installing of an external repair strap. You may examine the MCAI in the AD docket on the Internet at http://www.regulations.gov/#!documentDetail;D=FAA-2013-0865-0001.

Comments

We gave the public the opportunity to participate in developing this AD. We received no comments on the NPRM (78 FR 63132, October 23, 2013) or on the determination of the cost to the public.

Conclusion

We reviewed the relevant data and determined that air safety and the public interest require adopting this AD as proposed except for minor editorial changes. We have determined that these minor changes:

• Are consistent with the intent that was proposed in the NPRM (78 FR 63132, October 23, 2013) for correcting the unsafe condition; and

• Do not add any additional burden upon the public than was already proposed in the NPRM (78 FR 63132, October 23, 2013).

Costs of Compliance

We estimate that this AD affects 4 airplanes of U.S. registry.

We also estimate that it will take about 127 work-hours per product to comply with the basic requirements of this AD. The average labor rate is $85 per work-hour. Based on these figures, we estimate the cost of this AD on U.S. operators to be $43,180, or $10,795 per product.

In addition, we estimate that any necessary follow-on actions will take about 30 work-hours, for a cost of $2,550 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, Attn: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0865; or in person at the Docket Management Facility between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-07-05 Fokker Services B.V.: Amendment 39-17819. Docket No. FAA-2013-0865; Directorate Identifier 2012-NM-199-AD.

(a) Effective Date

This airworthiness directive (AD) becomes effective May 21, 2014.

(b) Affected ADs

None.

(c) Applicability

This AD applies to Fokker Services B.V. Model F.28 Mark 0070 and 0100 airplanes, certificated in any category, as identified in Fokker Service Bulletin SBF100-53-118, Revision 2, dated October 16, 2012.

(d) Subject

Air Transport Association (ATA) of America Code 53, Fuselage.

(e) Reason

This AD was prompted by an evaluation by the design approval holder (DAH) indicating that the butt-joints on the forward fuselage above the passenger door are subject to widespread fatigue damage (WFD). We are issuing this AD to prevent fatigue cracking of such butt-joints, which could result in reduced structural integrity of the airplane and in-flight decompression of the airplane.

(f) Compliance

Comply with this AD within the compliance times specified, unless already done.

(g) Inspection

Before the accumulation of 35,000 total flight cycles, or within 8 months after the effective date of this AD, whichever occurs later: Do a low frequency eddy current inspection for cracking of the forward fuselage butt-joints, in accordance with the Accomplishment Instructions of Fokker Service Bulletin SBF100-53-118, Revision 2, dated October 16, 2012.

(h) Repair

If any cracking is found during the inspection specified in paragraph (g) of this AD, before further flight, do the actions specified in paragraph (h)(1) or (h)(2) of this AD.

(1) Accomplish a temporary repair, including a detailed inspection for cracks in the butt strap on the inside of the applicable joint, and all applicable corrective actions, in accordance with the Accomplishment Instructions of Fokker Service Bulletin SBF100-53-118, Revision 2, dated October 16, 2012.

(2) Do a terminating repair of the forward fuselage butt-joints, including a detailed inspection for cracks in the butt strap on the inside of the applicable joint, and all applicable corrective actions, in accordance with the Accomplishment Instructions of Fokker Service Bulletin SBF100-53-119, Revision 2, dated May 8, 2013. Accomplishing the terminating repair specified in this paragraph is a method of compliance with the terminating repair required by paragraph (j) of this AD.

(i) Reporting

Submit a report of any crack findings from the inspection specified in paragraph (g) of this AD to Fokker Services, Hoeksteen 40, 2132 MS Hoofddorp, P.O. Box 1357, 2130 EL Hoofddorp, The Netherlands; by using the Reporting Form (figure 14 and figure 15, as applicable) of Fokker Service Bulletin SBF100-53-118, Revision 2, dated October 16, 2012; at the applicable time specified in paragraph (i)(1) or (i)(2) of this AD.

(1) If the inspection was done on or after the effective date of this AD: Submit the report within 30 days after the inspection.

(2) If the inspection was done before the effective date of this AD: Submit the report within 30 days after the effective date of this AD.

(j) Terminating Repair

Before the accumulation 50,000 total flight cycles, or within 8 months after the effective date of this AD, whichever occurs later: Do the terminating repair of the forward fuselage butt-joints, including a detailed inspection for cracks in the butt strap on the inside of the applicable joint, and all applicable corrective actions, in accordance with the Accomplishment Instructions of Fokker Service Bulletin SBF100-53-119, Revision 2, dated May 8, 2013. Do all applicable corrective actions before further flight.

(k) Credit for Previous Actions

(1) This paragraph provides credit for applicable actions required by paragraphs (g) and (h)(1) of this AD, if those actions were performed before the effective date of this AD using the service bulletins specified in paragraph (k)(1)(i) or (k)(1)(ii) of this AD, which are not incorporated by reference in this AD.

(i) Fokker Service Bulletin SBF100-53-118, dated April 10, 2012.

(ii) Fokker Service Bulletin SBF100-53-118, Revision 1, dated July 6, 2012.

(2) This paragraph provides credit for actions required by paragraphs (h)(2) and (j) of this AD, if those actions were performed before the effective date of this AD using the service bulletins specified in paragraph (k)(2)(i) or (k)(2)(ii) of this AD, which are not incorporated by reference in this AD.

(i) Fokker Service Bulletin SBF100-53-119, dated June 20, 2012.

(ii) Fokker Service Bulletin SBF100-53-119, Revision 1, dated October 30, 2012.

(l) Compliance Time Provisions

No alternative compliance times may be used for the modification required by paragraph (j) of this AD, unless extensive new data are provided and the compliance time is approved as an alternative method of compliance (AMOC) in accordance with the procedures specified in paragraph (m) of this AD.

(m) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to:9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) European Aviation Safety Agency Airworthiness Directive 2012-0218, dated October 19, 2012, for related information. This MCAI may be found in the AD docket on the Internet at http://www.regulations.gov/#!documentDetail;D=FAA-2013-0865-0001.

(2) Service information identified in this AD that is not incorporated by reference may be viewed at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-53-118, Revision 2, dated October 16, 2012.

(ii) Fokker Service Bulletin SBF100-53-119, Revision 2, dated May 8, 2013.

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 28, 2014.
Jeffrey E. Duven,
Manager, Transport Airplane Directorate, Aircraft Certification Service.

[FR Doc. 2014-07821 Filed 4-15-14; 8:45 am]

BILLING CODE 4910-13-P